DEPARTMENT OF JUSTICE

Bureau of Prisons

28 CFR Part 552

[BOP-1107-P]

RIN 1120-AB06

Suicide Prevention Program

AGENCY: Bureau of Prisons, Justice.

ACTION: Proposed rule.

SUMMARY: In this document, the Bureau of Prisons proposes to revise its regulations on the suicide prevention program for clarity and to remove agency management procedures which do not need to be stated in regulations. We intend the revised regulations to provide for the health and safety of inmates.

DATES: Comments due by January 12, 2001.

ADDRESSES: Rules Unit, Office of General Counsel, Bureau of Prisons, HOLC Room 754, 320 First Street, NW., Washington, DC 20534.

FOR FURTHER INFORMATION CONTACT: Sarah Qureshi, Office of General Counsel, Bureau of Prisons, phone (202) 514-6655.

SUPPLEMENTARY INFORMATION: The Bureau of Prisons (Bureau) proposes to revise its regulations on the suicide prevention program (28 CFR part 552, subpart E). Current regulations on this subject were published in the Federal Register on April 24, 1990 (55 FR 17355).

What Change Is the Bureau Making?

We are revising the regulations generally for clarity and to remove procedures relating to agency management. The revised regulations more clearly describe for the inmate how we identify and protect inmates at risk for suicide.

Why Is the Bureau Making This Change?

We are making this change to conform to the plain language initiative. Procedures relating to agency management are exempt from the rulemaking provisions of the Administrative Procedure Act (5 U.S.C. 553). Removing these procedures from the regulations allows us to speak more directly to inmates.

Revised § 552.40 more precisely states the purpose of our suicide prevention program and summarizes how we place inmates in and remove them from the program. Former §§ 552.41 through 552.43 are combined in a new § 552.41 which details the specific procedures we use to identify, refer, assess, and treat potentially suicidal inmates.

We combined provisions for the conditions of a suicide watch in former §§ 552.44, 552.46, and 552.48 in the new § 552.42. The revised regulations are more objective based. For example, the revised regulations require that rooms designated for housing an inmate on suicide watch must allow staff to maintain adequate control of the inmate without compromising the ability to observe and protect the inmate.

Previously, the regulations relied upon a more prescriptive approach of describing the location of the room (“. . . a non-administrative detention/segregation cell ordinarily in the health services area”). This prescriptive approach does not take into account recent developments in correctional facility design and construction, and has become unnecessarily restrictive.

Former §§ 552.45 and 552.49 addressed agency management procedures, and former § 552.47 affirms that a previously imposed sanction remains in effect for an inmate when that inmate is removed from a suicide watch. Because our regulations on inmate discipline sufficiently support that statement, we removed these three sections.

Who Does This Change Affect?

This regulation generally affects inmates in Bureau institutions.

How Can I Comment on the Proposed Change?

If you want to comment on this proposed rulemaking, you can submit data, views, or arguments in writing to the Rules Unit, Office of General Counsel, Bureau of Prisons, 320 First Street, NW., HOLC Room 754, Washington, DC 20534.

We will consider comments we receive during the comment period before we take final action. We will try to consider comments we receive after the comment period ends if we can.

All comments received remain on file for public inspection at the above address. We may change the proposed rule in light of the comments received. We do not expect to hold oral hearings on this rulemaking.

Executive Order 12866

This rule falls within a category of actions that the Office of Management and Budget (OMB) has determined not to constitute “significant regulatory actions” under section 3(f) of Executive Order 12866 and, accordingly, it was not reviewed by OMB.

Executive Order 13132

This regulation will not have substantial direct effects on the States, on the relationship between the national government and the States, or on distribution of power and responsibilities among the various levels of government. Therefore, under Executive Order 13132, we determine that this rule does not have sufficient federalism implications to warrant the preparation of a Federalism Assessment.

Regulatory Flexibility Act

The Director of the Bureau of Prisons, under the Regulatory Flexibility Act (5 U.S.C. 605(b)), reviewed this regulation and by approving it certifies that it will not have a significant economic impact upon a substantial number of small entities for the following reasons: This rule pertains to the correctional management of offenders committed to the custody of the Attorney General or the Director of the Bureau of Prisons, and its economic impact is limited to the Bureau's appropriated funds.

Unfunded Mandates Reform Act of 1995

This rule will not result in the expenditure by State, local and tribal governments, in the aggregate, or by the private sector, of $100,000,000 or more in any one year, and it will not significantly or uniquely affect small governments. Therefore, no actions were deemed necessary under the provisions of the Unfunded Mandates Reform Act of 1995.

Small Business Regulatory Enforcement Fairness Act of 1996

This rule is not a major rule as defined by section 804 of the Small Business Regulatory Enforcement Fairness Act of 1996. This rule will not result in an annual effect on the economy of $100,000,000 or more; a major increase in costs or prices; or significant adverse effects on competition, employment, investment, productivity, innovation, or on the ability of United States-based companies to compete with foreign-based companies in domestic and export markets.

Plain Language Instructions

We want to make Bureau documents easier to read and understand. If you can suggest how to improve the clarity of these regulations, call or write Sarah Qureshi at the telephone number or address listed above.

List of Subjects in 28 CFR Part 552

Prisoners.

Kathleen Hawk Sawyer,
Director, Bureau of Prisons.

Accordingly, under the rulemaking authority vested in the Attorney General in 5 U.S.C. 552(a) and delegated to the Director, Bureau of Prisons, we propose to amend 28 CFR part 552, chapter V, subchapter C, as follows.

SUBCHAPTER C—INSTITUTIONAL MANAGEMENT

PART 552—CUSTODY

1. The authority citation for 28 CFR part 552 continues to read as follows:

Authority: 5 U.S.C. 301; 18 U.S.C. 3621, 3622, 3624, 4001, 4042, 4081, 4082 (Repealed in part as to offenses committed on or after November 1, 1987), 5006-5024 (Repealed October 12, 1984, as to offenses committed after that date), 5039; 28 U.S.C. 509, 510; 28 CFR 0.95-0.99.

2. Revise subpart E to read as follows:

Subpart E—Suicide Prevention Program

Sec.

552.40 Purpose and scope.

552.41 Program procedures.

552.42 Suicide watch conditions.

Subpart E—Suicide Prevention Program

§ 552.40 Purpose and scope.

The Bureau of Prisons (Bureau) operates a suicide prevention program in order to assist staff in identifying and managing potentially suicidal inmates. When staff identify an inmate as being at risk for suicide, staff will place the inmate on suicide watch. Based upon clinical findings, staff will either terminate the suicide watch when the inmate is no longer at imminent risk for suicide or arrange for the inmate's transfer to a medical referral center or contract health care facility.

§ 552.41 Program procedures.

(a) Program Coordinator. Each institution must have a Program Coordinator for the institution's suicide prevention program.

(b) Training. The Program Coordinator is responsible for ensuring that appropriate training is available to staff and to inmates selected as inmate observers.

(c) Identification of at-risk inmates. (1) Medical staff are to screen a newly admitted inmate for signs that the inmate is at risk for suicide. Ordinarily, this screening is to take place within twenty-four hours of the inmate's admission to the institution.

(2) Staff (whether medical or non-medical) may make an identification at any time based upon the inmate's observed behavior.

(d) Referral. Staff who identify an inmate to be at risk for suicide will have the inmate placed on suicide watch.

(e) Assessment. A psychologist will clinically assess each inmate placed on suicide watch.

(f) Intervention. Upon completion of the clinical assessment, the Program Coordinator or designee will determine the appropriate intervention that best meets the needs of the inmate.

§ 552.42 Suicide watch conditions.

(a) Housing. Each institution must have one or more rooms designated specifically for housing an inmate on suicide watch. The designated room must allow staff to maintain adequate control of the inmate without compromising the ability to observe and protect the inmate.

(b) Observation. (1) Staff or trained inmate observers operating in scheduled shifts are responsible for keeping the inmate under constant observation.

(2) Only the Warden may authorize the use of inmate observers.

(3) Inmate observers are considered to be on an institution work assignment when they are on their scheduled shift.

(c) Suicide watch log. Observers are to document significant observed behavior in a log book.

(d) Termination. Based upon clinical findings, the Program Coordinator or designee will:

(1) Remove the inmate from suicide watch when the inmate is no longer at imminent risk for suicide, or

(2) Arrange for the inmate's transfer to a medical referral center or contract health care facility.

[FR Doc. 00-28905 Filed 11-9-00; 8:45 am]

BILLING CODE 4410-05-U